FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 30, 2018.

A. Federal Reserve Bank of Philadelphia (William Spaniel, Senior Vice President) 100 North 6th Street, Philadelphia, Pennsylvania 19105-1521. Comments can also be sent electronically to Comments.applications@phil.frb.org:

1. Patriot Financial Partners, GP II, L.P., Patriot Financial Partners II, L.P., Patriot Financial Partners Parallel II, L.P., Patriot Financial Partners, GP II, LLC., Patriot Financial Manager, L.P., Patriot Financial Manager, LLC. and Messrs. W. Kirk Wycoff, James J. Lynch and Ira M. Lubert, Philadelphia, Pennsylvania; to acquire voting shares of Howard Bancorp, Inc., and thereby indirectly acquire Howard Bank, both of Baltimore, Maryland.

Board of Governors of the Federal Reserve System, October 9, 2018.
Yao-Chin Chao,
Assistant Secretary of the Board.

[FR Doc. 2018-22280 Filed 10-12-18; 8:45 am]

BILLING CODE P